FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 2, 2016.

A. Federal Reserve Bank of Atlanta (Chapelle Davis, Assistant Vice President) 1000 Peachtree Street, NE., Atlanta, Georgia 30309. Comments can also be sent electronically to Applications.Comments@atl.frb.org:

1. Henry Monty Weigel, Dothan, Alabama; to acquire additional voting shares of SunSouth Bancshares, Inc., and thereby indirectly acquire additional voting shares of SunSouth Bank, both in Dothan, Alabama.

B. Federal Reserve Bank of St. Louis (David L. Hubbard, Senior Manager) P.O. Box 442, St. Louis, Missouri 63166-2034. Comments can also be sent electronically to Comments.applications@stls.frb.org:

1. The Philip K. Mobley 2015 Trust with Philip K. Mobley as trustee, both of Austin, Texas; to retain voting shares of Commercial Bancshares, Inc., Texarkana, Arkansas, and thereby indirectly retain voting shares of Commercial National Bank of Texarkana, Texarkana, Texas.

Board of Governors of the Federal Reserve System, February 11, 2016.
Michael J. Lewandowski,
Associate Secretary of the Board.

[FR Doc. 2016-03167 Filed 2-16-16; 8:45 am]

BILLING CODE 6210-01-P